DEPARTMENT OF AGRICULTURE

Rural Housing Service

Request for Proposals (RFP): Farm Labor Housing Technical Assistance Grants

AGENCY: Rural Housing Service, USDA.

ACTION: Notice.

SUMMARY: This Request for Proposal (RFP) announces an availability of funds and the timeframe to submit proposals for Farm Labor Housing Technical Assistance (FLH-TA) grants.

Section 516(i) of the Housing Act of 1949, as amended (Act), authorizes the Rural Housing Service (RHS) to provide financial assistance (grants) to eligible private and public non-profit agencies to encourage the development of domestic and migrant farm labor housing projects. This RFP requests proposals from qualified private and public non-profit agencies to provide technical assistance to groups who qualify for FLH loans and grants.

Work performed under these grants is expected to result in an increased submission of quality applications for FLH loans and grants under the section 514 and 516 programs and as a result an increase in the availability of decent, safe, and sanitary housing for farm laborers.

DATES: The deadline for receipt of all applications in response to this RFP is 5:00 p.m., Eastern Daylight Time, on November 5, 2012. The application closing deadline is firm as to date and hour. RHS will not consider any application that is received after the closing deadline. Applicants intending to mail applications must provide sufficient time to permit delivery on or before the closing deadline. Acceptance by a post office or private mailer does not constitute delivery. Facsimile (FAX), Cash on Delivery (COD), and postage due applications will not be accepted.

ADDRESSES: Applications should be submitted to the USDA—Rural Housing Service; Attention: Mirna Reyes-Bible, Finance and Loan Analyst, Multi-Family Housing Preservation and Direct Loan Division, STOP 0781 (Room 1243-S), USDA Rural Development, 1400 Independence Avenue SW., Washington, DC 20250-0781. RHS will date and time stamp incoming applications to evidence timely receipt and, upon request, will provide the applicant with a written acknowledgement of receipt.

FOR FURTHER INFORMATION CONTACT: Mirna Reyes-Bible, Finance and Loan Analyst, Multi-Family Housing Preservation and Direct Loan Division, STOP 0781 (Room 1243-S), USDA Rural Development, 1400 Independence Avenue SW., Washington, DC 20250-0781, telephone: (202) 720-1753 (this is not a toll free number), or via email: Mirna.ReyesBible@wdc.usda.gov.

SUPPLEMENTARY INFORMATION:

Overview Information

Federal Agency Name: Rural Housing Service.

Funding Opportunity Title: Request for Proposals (RFP): Farm Labor Housing Technical Assistance Grants.

Announcement Type: Initial Announcement.

Catalog of Federal Domestic Assistance: 10.405.

DATES: The deadline for receipt of all applications in response to this RFP is 5:00 p.m., Eastern Daylight Time, on November 5, 2012. The application closing deadline is firm as to date and hour. RHS will not consider any application that is received after the closing deadline. Applicants intending to mail applications must provide sufficient time to permit delivery on or before the closing deadline. Acceptance by a post office or private mailer does not constitute delivery. Facsimile (FAX), COD, and postage due applications will not be accepted.

I. Funding Opportunity Description

The technical assistance grants authorized under section 516 are for the purpose of encouraging the development of domestic and migrant FLH projects under sections 514 and 516 of the Act. RHS regulations for section 514 and 516 FLH program are published at 7 CFR part 3560. Further requirements for technical assistance grants can be found at 7 CFR part 3560, subpart L. Proposals must demonstrate the capacity to provide the intended technical assistance.

The RHS intends to award one grant for each of three geographic regions listed below. When establishing the three regions, and amount of funding available for each region, consideration was given to such factors as farmworker migration patterns and the similarity of agricultural products and labor needs within certain areas of the United States. A single applicant may submit grant proposals for more than one region; however, separate proposals must be submitted for each region.

Eastern Region: AL, CT, DE, FL, GA, IN, KY, MA, MD, ME, NH, NJ, NY, NC, OH, PA, PR, RI, SC, TN, VI, VT, VA, WV.

Central Region: AR, IL, IA, KS, LA, MI, MN, MS, MO, NE., ND, OK, SD, TX, WI.

Western Region: AK, AZ, CA, CO, HI, ID, MT, NV, NM, OR, UT, WA, WY, and the Pacific Territories.

II. Award Information

The RHS has the authority under the Act to utilize up to 10 percent of its section 516 appropriation for FLH-TA grants. The total Fiscal Year (FY) 2012 appropriation for section 516 is $7,100,000. The total amount of the FY 2012 appropriation that RHS has made available for FLH-TA grants is $710,000. Of that amount, up to $250,000 will be available for each of the Eastern and Western Grant Regions and up to $210,000 of the remaining funds will be available for the Central Grant Region. Work performed under these grants must be completed within 3 years of entering into a grant agreement with RHS. The disbursement of grant funds during the grant period will be contingent upon the applicant making progress in meeting the minimum performance requirements as described in the Scope of Work section of this Notice, including, but not limited to, the submission of loan application packages.

III. Eligibility Information

Eligible Applicants: Eligibility for grants under this Notice is limited to private and public non-profit agencies. Applicants must have the knowledge, ability, technical expertise, or practical experience necessary to develop and package loan and grant applications for FLH under the section 514 and 516 programs (see Section IV. Application and Submission Information). In addition, applicants must possess the ability to exercise leadership, organize work, and prioritize assignments to meet work demands in a timely and cost efficient manner. The applicant may arrange for other non-profit agencies to provide services on its behalf; however, the RHS will expect the applicant to provide the overall management necessary to ensure the objectives of the grant are met. Non-profit agencies acting on behalf of the applicant must also meet the eligibility requirements stated above.

Minimum Performance Requirements

(1) Applicants shall conduct outreach to broad-based non-profit organizations, non-profit organizations of farmworkers, federally recognized Indian tribes, agencies or political subdivisions of State or local Government, public agencies (such as housing authorities) and other eligible FLH organizations to further the section 514 and 516 FLH programs. Outreach will consist of a minimum of 12 informational presentations to the general public annually to inform them about the section 514 and 516 FLH programs.

(2) Applicants shall conduct at least 12 one-on-one meetings annually with groups who are interested in applying for FLH loans or grants and assist such groups with the loan and grant application process.

(3) Applicants shall assist loan and grant applicants secure funding from other sources for the purpose of leveraging those funds with RHS funds.

(4) Applicants shall provide technical assistance during the development and construction phase of FLH proposals selected for funding.

(5) When submitting a grant proposal, applicants need not identify the geographic location of the places they intend to target for their outreach activities, however, applicants must commit to targeting at least five areas within the grant proposal's region. All targeted areas must be distinct market areas and not be overlapping. At least four of the targeted areas must be in different States. If the proposal is selected for funding, the applicant will be required to consult with each Rural Development State Director in the proposal's region for the purpose of developing their list of targeted areas. When determining which areas to target, consideration will be given to (a) the total number of farmworkers in the area, (b) the number of farmworkers in that area who lack adequate housing, (c) the percentage of the total number of farmworkers that are without adequate housing, and (d) areas which have not recently had a section 514 or 516 loan or grant funded for new construction. In addition, if selected for funding, the applicant will be required to revise their Statement of Work to identify the geographic location of the targeted areas and will submit their revised Statement of Work to the National Office for approval. When submitted for approval, the applicant must also submit a summary of their consultation with the Rural Development State Directors. At grant closing, the revised Statement of Work will be attached to, and become a part of, the grant agreement.

(6) During the grant period, each applicant must submit a minimum number of loan application packages to the Agency for funding consideration. The minimum number shall be the greater of (a) at least nine loan application packages for the Eastern and Western Regions and at least seven for the Central Region or, (b) a total number of loan application packages that is equal to 70 percent of the number of areas the applicant's proposal committed to targeting. Fractional percentages shall be rounded up to the next whole number. For example, if the applicant's proposal committed to targeting 13 areas, then the applicant must submit at least 10 loan application packages during the grant period (13 areas × 70 percent = 9.1 rounded up to 10). The disbursement of grant funds during the grant period will be contingent upon the applicant making progress in meeting this minimum performance requirement. More than one application package for the same market area will not be considered unless the applicant submits documentation of the need for more than one FLH facility.

(7) Provide training to applicants of FLH loans and grants to assist them in their ability to manage FLH.

IV. Application and Submission Information

The application process will be in two phases; the initial application (or proposal) and the submission of a formal application. Only those proposals that are selected for funding will be invited to submit formal applications. All proposals must include the following:

(1) A summary page listing the following items. This information should be double-spaced between items and not be in narrative form.

a. Applicant's name,

b. Applicant's Taxpayer Identification Number,

c. Applicant's address,

d. Applicant's telephone number,

e. Name of applicant's contact person, telephone number, and address,

f. Amount of grant requested,

g. The FLH-TA grant region for which the proposal is submitted (i.e., Eastern, Central, or Western Region), and

h. Applicant's Dun and Bradstreet Data Universal Numbering System (DUNS) number and registration in the Central Contractor Registration (CCR) database prior to submitting a pre-application pursuant to 2 CFR 25.200(b). As required by the Office of Management and Budget (OMB), all grant applicants must provide a DUNS number when applying for Federal grants on or after October 1, 2003. Organizations can receive a DUNS number at no cost by calling the dedicated toll-free DUNS Number request line at 1-866-705-5711 or via Internet at http://www.dnb.com/. Additional information concerning this requirement can be obtained on the Grants.gov Web Site at http://www.grants.gov. Similarly, applicants may register for the CCR at https://uscontractingregistration.com or by calling 1-877-252-2700. In addition, an entity applicant must maintain registration in the CCR database at all times during which it has an active Federal award or an application or plan under construction by the Agency. Similarly, all recipients of Federal financial assistance are required to report information about first-tier sub-awards and executive compensation in accordance with 2 CFR part 170. So long as an entity applicant does not have an exception under 2 CFR 170.110(b), the applicant must have the necessary processes and systems in place to comply with the reporting requirements should the applicant receive funding. See 2 CFR 170.200(b).

i. Awards made under this Notice are subject to the provisions contained in the Agriculture, Rural Development, Food and Drug Administration, and Related Agencies Appropriations Act, 2012, P.L. No. 112-55, Division A sections 738 and 739 regarding corporate felony convictions and corporate federal tax delinquencies. To comply with these provisions, all applicants must complete and include in the pre-application paragraph (A) of this representation, and all corporate applicants also must complete paragraphs (B) and (C) of this representation:

(A) Applicant__________ [insert applicant name] is not_______ (check one) and entity that has filed articles of incorporation in one of the fifty states, the District of Columbia, or the various territories of the United States including American Samoa. Federated States of Micronesia, Guam, Midway Islands, Northern Mariana Islands, Puerto Rico, Republic of Palau, Republic of the Marshall Islands, U.S. Virgin Islands.

(B) Applicant__________ [insert applicant name] has_______has not_______ (check one) been convicted of a felony criminal violation under Federal or state law in the 24 months preceding the date of application. Applicant has_______ has not_______ (check one) had any officer or agent of the Applicant convicted of a felony criminal violation for actions taken on behalf of the Applicant under Federal or State law in the 24 months preceding the date of the signature on the pre-application.

(C) Applicant__________ [insert applicant name] has_______ does not have_______ (check one) any unpaid Federal tax liability that has been assessed, for which all judicial and administrative remedies have been exhausted or have lapsed, and that is not being paid in a timely manner pursuant to an agreement with the authority responsible for collecting the tax liability.

(2) A narrative describing the applicant's ability to meet the eligibility requirements stated in this Notice. If the applicant intends to have other agencies working on their behalf, the narrative must identify those agencies and address their ability to meet the stated eligibility requirements.

(3) A detailed Statement of Work covering a 3 year period that contains measurable monthly and annual accomplishments. The applicant's Statement of Work is a critical component of the selection process. The Statement of Work must include an outreach component describing the applicant's activities to inform potentially eligible groups about the section 514 and 516 FLH program. The outreach component must include a schedule of their planned outreach activities and must be included in a manner so that performance can be measured. In addition, the outreach activities must be coordinated with the appropriate RHS State Office and meet the minimum performance requirements as stated in the Scope of Work section of this Notice. The Statement of Work must state how many areas the applicant will target for their outreach activities (Note: If selected for funding, the applicant will be required to revise their Statement of Work, after consultation with Rural Development State Directors, to identify the areas that will be targeted). The Statement of Work must also include a component for training organizations on the application process and the long-term management of FLH. The Statement of Work will also describe the applicant's plans to access other funding for the development and construction of FLH and their experience in obtaining such funding. The Statement of Work must describe any duties or activities that will be performed by other agencies on behalf of the applicant.

(4) An organizational plan that includes a staffing chart complete with name, job title, salary, hours, timelines, and descriptions of employee duties to achieve the objectives of the grant program.

(5) Organizational documents and financial statements to evidence the applicant's status as a properly organized private or public non-profit agency and the financial ability to carry out the objectives of the grant program. If other agencies will be working on behalf of the applicant, working agreements between the applicant and those agencies must be submitted as part of the proposal and any associated cost must be included in the applicant's budget. Organizational and financial statements must also be submitted as part of the application for any agencies that will be working on behalf of the applicant to document the eligibility of those organizations.

(6) A detailed budget plan projecting the monthly and annual expenses the applicant will incur. Costs will be limited to those that are allowed under 7 CFR parts 3015, 3016, and 3019.

(7) To insure that funds are equitably distributed and that there is no duplication of efforts on related projects, all applicants are to submit a list of projects they are currently involved with, whether publicly or privately supported, that are or may be, related to the objectives of this grant. In addition, the same disclosure must be provided for any agencies that will be working on behalf of the applicant.

(8) The applicant must include a narrative describing its knowledge, demonstrated ability, or practical experience in providing training and technical assistance to applicants of loans or grants for the development of multi-family or farmworker housing. The applicant must identify the type of assistance that was applied for (loan or grant, tax credits, leveraged funding, etc.), the number of times they have provided such assistance, and the success ratio of their applications. In addition, information must be provided concerning the number of housing units, their size, their design, and the amount of grant and loan funds that were secured.

(9) A narrative describing the applicant's knowledge and demonstrated ability in estimating development and construction costs of multi-family or farm labor housing and for obtaining the necessary permits and clearances.

(10) A narrative describing the applicant's ability and experience in overcoming community opposition to FLH and describing the methods and techniques that they will use to overcome any such opposition, should it occur.

(11) A separate one-page information sheet listing each of the “Application Scoring Criteria” contained in this Notice, followed by the page numbers of all relevant material and documentation that is contained in the proposal that supports these criteria.

V. Application Review Information

The initial application (or proposal) evaluation process designed for this RFP will consist of two phases. The first phase will evaluate the applicant's Statement of Work and the degree to which it sets forth measurable objectives that are consistent with the objectives of FLH-TA grant program. The second phase will evaluate the applicant's knowledge and ability to provide the management necessary for carrying out a FLH-TA grant program. Proposals will only compete against other proposals within the same region. Selection points will be awarded as follows:

Phase I—Statement of Work

The Statement of Work will be evaluated to determine the degree to which it outlines efficient and measurable monthly and annual outcomes as follows:

a. The minimum performance requirements of this Notice require that the applicant commit to targeting at least five areas (at least four of which are in different States). The more areas the applicant commits to targeting, the more scoring points they will be awarded. As stated earlier in this Notice, the more areas the applicant commits to the more loan application packages must be submitted. The amount will be established in the Statement of Work. The number of areas within the region that the applicant has committed to targeting for outreach activities:

(1) 5-7 targeted areas: 0 points

(2) 8 targeted areas: 5 points

(3) 9-10 targeted areas: 10 points

(4) 11-12 targeted areas: 15 points

(5) 13 or more areas: 20 points

b. RHS wants the applicant to cover as much of the grant region as possible. RHS does not want the applicant's efforts to be concentrated in a limited number of States. For this reason, additional points will be awarded to grant proposals that target areas in more than four States (the minimum requirement is four). Applications only compete within their grant region. The grant proposal commits to targeting areas in the following number of States:

(1) 4 States: 0 points

(2) 5 States: 5 points

(3) 6 States: 10 points

(4) 7 States: 15 points

(5) More than 7 States: 20 points

Phase II—Project Management

a. The number of successful multi-family or FLH loan or grant applications the applicant entity has assisted in developing and packaging:

(1) 0-5 applications: 0 points

(2) 6-10 applications: 10 points

(3) 11-15 applications: 20 points

(4) 16 or more applications: 30 points

b. The number of groups seeking loans or grants for the development of multi-family or FLH projects that the applicant entity has provided training and technical assistance.

(1) 0-5 groups: 0 points

(2) 6-10 groups: 5 points

(3) 11-15 groups: 10 points

(4) 16 or more groups: 15 points

c. The number of multi-family or FLH projects for which the applicant entity has assisted in estimating development and construction costs and obtaining the necessary permits and clearances:

(1) 0-5 projects: 0 points

(2) 6-10 projects: 5 points

(3) 11-15 projects: 10 points

(4) 16 or more projects: 15 points

d. The number of times the applicant entity has encountered community opposition and was able to overcome that opposition so that farm labor housing was successfully developed.

(1) 0-2 times: 0 points

(2) 2-5 times: 5 points

(3) 6-10 times: 10 points

(4) 11 or more times: 15 points

e. The number of times the applicant entity has been able to leverage funding from two or more sources for the development of a multi-family or FLH project.

(1) 0-5 times: 0 points

(2) 6-10 times: 5 points

(3) 11-15 times: 10 points

(4) 16 or more times: 15 points

f. The number of FLH projects that the applicant entity has assisted with on-going management (i.e., rent-up, maintenance, etc.):

(1) 0-5 FLH projects: 0 points

(2) 6-10 FLH projects: 5 points

(3) 11-15 FLH projects: 10 points

(4) 16 or more FLH projects: 15 points

The National Office will rank all pre-applications by region and distribute funds to the regions in rank order and within funding limits.

Tie Breakers—In the event two or more proposals within a region are scored with an equal amount of points, selections will be made in the following order:

1. If an applicant has already had a proposal selected, their proposal will not be selected.

2. If all or none of the applicants with equivalent scores have already had a proposal selected, the lowest cost proposal will be selected.

3. If two or more proposals have equivalent scores, all or none of the applicants have already had a proposal selected, and the cost is the same, a proposal will be selected by a random lottery drawing.

RHS will notify all applicants whether their pre-applications have been accepted or rejected and provide appeal rights under 7 CFR part 11, as appropriate.

Paperwork Reduction Act

The reporting requirements contained in this Notice have been approved by the Office of Management and Budget (OMB) under Control Number 0575-0181.

Equal Opportunity and Non-Discrimination Requirements

The U.S. Department of Agriculture prohibits discrimination in all of its programs and activities on the basis of race, color, national origin, age, disability, and where applicable, sex, marital status, familial status, parental status, religion, sexual orientation, political beliefs, genetic information, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination, write to USDA, Assistant Secretary for Civil Rights, Office of the Assistant Secretary for Civil Rights, 1400 Independence Avenue SW., STOP 9410, Washington, DC 20250-9410, or call toll free at (866) 632-9992 (English) or (800) 877-8339 (TDD) or (866) 377-8642 (English Federal—Relay) or (800) 845-6136 (Spanish Federal—Relay). “USDA is an equal opportunity provider, employer, and lender.”

Dated: August 28, 2012.
Tammye Trevino,
Administrator, Rural Housing Service.

RHS may terminate the grant in whole, or in part, at any time before the date of completion, whenever it is determined that the grantee has failed to comply with the conditions of this grant agreement or RHS regulations related hereto. The grantee may appeal adverse decisions in accordance with RHS's appeal procedures contained in 7 CFR part 11.

In consideration of said grant by RHS to the grantee, to be made pursuant to section 516 of title V of the Housing Act of 1949, the grantee will provide such a program in accordance with the terms of this grant agreement and applicable regulations.

PART A Definitions

1. “Beginning date” means the date this agreement is executed by both parties and costs can be incurred.

2. “Ending date” means the date this agreement is scheduled to be completed. It is also the latest date grant funds will be provided under this agreement, without an approved extension.

3. “Disallowed costs” are those charges to a grant which RHS determines cannot be authorized in accordance with applicable Federal cost principles contained in 7 CFR parts 3015, 3016 and 3019, as appropriate.

4. “FLH-TA” means Farm Labor Housing Technical Assistance, the purpose for which grant funds are awarded under this agreement.

5. “Grant closeout” is the process by which the grant operation is concluded at the expiration of the grant period or following a decision to terminate the grant.

6. “RHS” means the Rural Housing Service, an agency of the United States Department of Agriculture.

7. “Termination” of the grant means the cancellation of Federal assistance, in whole or in part, at any time before the date of completion.

PART B Terms of Agreement

RHS and the grantee agree that:

1. All grant activities shall be limited to those authorized by this grant agreement and section 516 of title V of the Housing Act of 1949.

2. This agreement shall be effective when executed by both parties.

3. The FLH-TA grant activities approved by RHS shall commence and be completed by the date indicated above, unless terminated under part B, paragraph 18 of this grant agreement, or extended by execution of the attached “Amendment” by both parties.

4. The grantee shall carry out the FLH-TA grant activities and processes as described in the approved statement of work which is attached to, and made a part of, this grant agreement. The Grantee will be bound by the activities and processes contained in the statement of work and the further conditions contained in this grant agreement. If the statement of work is inconsistent with this grant agreement, then the latter will govern. A change of any activities and processes must be in writing and must be signed by the approval official.

5. The grantee shall use grant funds only for the purposes and activities approved by RHS in the FLH-TA grant budget. Any uses not provided for in the approved budget must be approved in writing by RHS in advance.

6. If the grantee is a private non-profit corporation, expenses charged for travel or per diem will not exceed the rates paid to Federal employees or (if lower) an amount authorized by the grantee for similar purposes. If the grantee is a public body, the rates will be those that are allowable under the customary practice in the government of which the grantee is a part; if none are customary, the RHS Federal employee rates will be the maximum allowed.

7. Grant funds will not be used:

(a) To pay obligations incurred before the beginning date or after the ending date of this agreement;

(b) For any entertainment purposes;

(c) To pay for any capital assets, the purchase of real estate or vehicles, the improvement or renovation of the grantee's office space, or for the repair or maintenance of privately owned vehicles;

(d) For any other purpose prohibited in 7 CFR 3015, 3016 and 3019, as applicable;

(e) For administrative expenses exceeding 20 percent of the FLH-TA grant funds; or

(f) For purposes other than to encourage the development of farm labor housing.

8. The grant funds shall not be used to substitute for any financial support previously provided and currently available or assured from any other source.

9. The disbursal of grants will be governed as follows:

(a) In accordance with 31 CFR part 205, grant funds will be provided by RHS as cash advances on an as needed basis not to exceed one advance every 30 days. The advances will be made by direct Treasury check to the grantee. In addition, the grantee must submit Standard Form (SF) 272, “Federal Cash Transactions Report,” each time an advance of funds is made. This report shall be used by RHS to monitor cash advances made to the grantee. The financial management system of the recipient organization shall provide for effective control over and accountability for all Federal funds as required by 7 CFR parts 3015, 3016, and 3019, as applicable.

(b) Cash advances to the grantee shall be limited to the minimum amounts needed and shall be timed to be in accord only with the actual, immediate cash requirements of the grantee in carrying out the purpose of the planned project. The timing and amount of cash advances shall be as close as administratively feasible to the actual disbursements by the grantee for direct program costs (as identified in the grantee's statement of work and budget and fund use plan) and proportionate share of any allowable indirect costs.

(c) Grant funds should be promptly refunded to the RHS and redrawn when needed if the funds are erroneously drawn in excess of immediate disbursement needs. The only exceptions to the requirement for prompt refunding are when the funds involved:

(i) Will be disbursed by the recipient organization within 7 calendar days from the date of the Treasury check; or (ii) Are less than $10,000 and will be disbursed within 30 calendar days from the date of the Treasury check.

(d) Grantee shall provide satisfactory evidence to RHS that all officers of the grantee's organization authorized to receive or disburse Federal funds are covered by fidelity bonds in an amount of at least the grant amount to protect RHS's interests.

10. The grantee will submit performance, financial, and annual reports as required by 7 CFR parts 3015, 3016, and 3019, as applicable, to the appropriate RHS office. These reports must be reconciled to the grantee's accounting records.

(a) As needed, but not more frequently than once every 30 calendar days, submit an original and two copies of SF-270, “Request for Advance or Reimbursement.” In addition, the grantee must submit a SF-272, each time an advance of funds is made. This report shall be used by RHS to monitor cash advances made to the grantee.

(b) Quarterly reports will be submitted within 15 days after the end of each calendar quarter. Quarterly reports shall consist of an original and one copy of SF-425, “Federal Financial Report,” and a quarterly performance report summarizing the grantee's activities and accomplishments for the prior quarter. Item 10, g (total program outlays) of the SF-425, will be less any rebates, refunds, or other discounts. The quarterly performance report will provide a summary of the grantee's activities for the prior quarter and their progress in accomplishing the tasks described in the grantee's statement of work. The quarterly report will also inform RHS of any problems or difficulties the grantee is experiencing (i.e., locating sites, finding feasible markets, gaining public support, etc.). The reports will be reviewed by RHS for the purpose of evaluating whether the grantee is accomplishing the objectives of the grant and whether RHS can assist the grantee in any manner. Quarterly reports shall be submitted to a designated official at the RHS National Office, with a copy of the report to each State Director within the FLH-TA grant region where the grantee is operating.

(c) Within 90 days after the termination or expiration of the grant agreement, an original and two copies of SF-425, and a final performance report which will include a summary of the project's accomplishments, problems, and planned future activities of the grantee under FLH-TA grants. Final reports may serve as the last quarterly report.

(d) The RHS may change the format or process of the monthly and quarterly activities and accomplishment reports during the performance of the agreement.

11. In accordance with Office of Management and Budget (OMB) Circular A-87, Cost Principles for State, Local, and Indian Tribal Governments (available in any RHS office), compensation for employees will be considered reasonable to the extent that such compensation is consistent with that paid for similar work in other activities of the State or local government.

12. If the grant exceeds $100,000, cumulative transfers among direct cost budget categories totaling more than 5 percent of the total budget must have prior written approval of RHS.

13. The results of the program assisted by grant funds may be published by the grantee without prior review by RHS, provided that such publications acknowledge the support provided by funds pursuant to the provisions of Title V of the Housing Act of 1949, as amended, and that five copies of each such publication are furnished to RHS.

14. The grantee certifies that no person or organization has been employed or retained to solicit or secure this grant for a commission, percentage, brokerage, or contingency fee.

15. No person in the United States shall, on the grounds of race, religion, color, sex, familial status, age, national origin, or disability, be excluded from participation in, be denied the proceeds of, or be subject to discrimination in connection with the use of grant funds. Grantee will comply with the nondiscrimination regulations of RHS contained in 7 CFR part 1901, subpart E.

16. In all hiring or employment made possible by or resulting from this grant:

(a) The grantee will not discriminate against any employee or applicant for employment because of race, religion, color, sex, familial status, age, national origin, or disability,

(b) The grantee will ensure that employees are treated without regard to their race, religion, color, sex, familial status, age, national origin, or disability. This requirement shall apply to, but not be limited to, the following: employment, upgrading, demotion, or transfer; recruitment or recruitment advertising, layoff or termination, rates of pay or other forms of compensation; and selection for training, including apprenticeship, and

(c) In the event grantee signs a contract related to this grant which would be covered by any Executive Order, law, or regulation prohibiting discrimination, grantee shall include in the contract the “Equal Employment Clause” as specified by Form RD 400-1, “Equal Opportunity Agreement.”

17. The grantee accepts responsibility for accomplishing the FLH-TA grant program as submitted and included in its preapplication and application, including its statement of work. The grantee shall also:

(a) Endeavor to coordinate and provide liaison with State and local housing organizations, where they exist.

(b) Provide continuing information to RHS on the status of grantee's FLH-TA grant programs, projects, related activities, and problems.

(c) Inform RHS as soon as the following types of conditions become known:

(i) Problems, delays, or adverse conditions which materially affect the ability to attain program objectives, prevent the meeting of time schedules or goals, or preclude the attainment of project work units by established time periods. This disclosure shall be accompanied by a statement of the action taken or contemplated, new time schedules required and any RHS assistance needed to resolve the situation.

(ii) Favorable developments or events which enable meeting time schedules and goals sooner than anticipated or producing more work units than originally projected.

18. The grant closeout and termination procedures will be as follows:

(a) Promptly after the date of completion or a decision to terminate a grant, grant closeout actions are to be taken to allow the orderly discontinuation of grantee activity.

(i) The grantee shall immediately refund to RHS any uncommitted balance of grant funds.

(ii) The grantee will furnish to RHS within 90 calendar days after the date of completion of the grant, SF-425 and all financial, performance, and other reports required as a condition of the grant, including a final audit report, as required by 7 CFR part 3015, 3016, and 3019, as applicable. In accordance with 7 CFR part 3015 and OMB Circular A-133, audits must be conducted in accordance with generally accepted government auditing standards.

(iii) The grantee shall account for any property acquired with FLH-TA grant funds or otherwise received from RHS.

(iv) After the grant closeout, RHS will recover any disallowed costs which may be discovered as a result of an audit.

(b) When there is reasonable evidence that the grantee has failed to comply with the terms of this grant agreement, the Administrator (or his or her designee) can, on reasonable notice, suspend the grant pending corrective action or terminate the grant in accordance with part B, paragraph 18(c) of this grant agreement. In such instances, RHS may reimburse the grantee for eligible costs incurred prior to the effective date of the suspension or termination and may allow all necessary and proper costs which the grantee could not reasonably avoid. RHS will withhold further advances and grantees are prohibited from further use of grant funds, pending corrective action.

(c) Grant termination will be based on the following:

(i) Termination for cause. This grant may be terminated in whole, or in part, at any time before the date of completion, whenever RHS determines that the grantee has failed to comply with the terms of this agreement. The reasons for termination may include, but are not limited to, such problems as:

(A) Failure to make reasonable and satisfactory progress in attaining grant objectives.

(B) Failure of grantee to use grant funds only for authorized purposes.

(C) Failure of grantee to submit adequate and timely reports of its operation.

(D) Violation of any of the provisions of any laws administered by RHS or any regulation issued thereunder.

(E) Violation of any nondiscrimination or equal opportunity requirement administered by RHS in connection with any RHS programs.

(F) Failure to maintain an accounting system acceptable to RHS.

(ii) Termination for convenience. RHS or the grantee may terminate the grant in whole, or in part, when both parties agree that the continuation of the project would not produce beneficial results commensurate with the further expenditure of funds. The two parties shall agree upon the termination conditions, including the effective date and, in case of partial termination, the portion to be terminated.

(d) RHS shall notify the grantee in writing of the determination and the reasons for and the effective date of the suspension or termination. Except for termination for convenience, grantees have the opportunity to appeal a suspension or termination in accordance with 7 CFR part 11.

19. Upon any default under its representations or agreements contained in this instrument, the grantee, at the option and demand of RHS, will repay to RHS forthwith the grant funds received with interest at the rate of 5 percent per annum from the date of the default. The provisions of this grant agreement may be enforced by RHS, at its option and without regard to prior waivers by it or previous defaults of the grantee, by judicial proceedings to require specific performance of the terms of this grant agreement or by such other proceedings in law or equity, in either Federal or state courts, as may be deemed necessary by RHS to assure compliance with the provisions of this grant agreement and the laws and regulations under which this grant is made.

20. Extension of this grant agreement, modifications of the statement of work, or changes in the grantee's budget may be approved by RHS provided, in RHS's opinion, the extension or modification is justified and there is a likelihood that the grantee can accomplish the goals set out and approved in the statement of work during the period of the extension and/or modifications.

21. The provisions of 7 CFR parts 3015, 3016, and 3019, as applicable, are incorporated herein and made a part hereof by reference.

PART C Grantee Agrees

1. To comply with property management standards for expendable and nonexpendable personal property established by 7 CFR parts 3015, 3016, and 3019.

2. To provide a financial management system which will include:

(a) Accurate, current, and complete disclosure of the financial results of each grant. Financial reporting will be on a cash basis. The financial management system shall include a tracking system to insure that all program income, including loan repayments, are used properly. The standards for financial management systems are contained in OMB Circular A-110 and 7 CFR part 3015.

(b) Records which identify adequately the source and application of funds for grant supported activities. Those records shall contain information pertaining to grant awards and authorizations, obligations, unobligated balances, assets, liabilities, outlays, and income.

(c) Effecting control over and accountability for all funds, property, and other assets. Grantee shall adequately safeguard all such assets and shall assure that they are solely for authorized purposes.

(d) Accounting records supported by source documentation.

3. To retain financial records, supporting documents, statistical records, and all other records pertinent to the grant for a period of at least 3 years after the submission of the final performance report, in accordance with part B, paragraph 10 (c) of this grant agreement, except in the following situations:

(a) If any litigation, claim, audit, or investigation is commenced before the expiration of the 3-year period, the records shall be retained until all litigation, claims, audits, or investigative findings involving the records have been resolved.

(b) For records for nonexpendable property acquired by RHS, the 3-year retention requirement is not applicable.

(c) When records are transferred to or maintained by RHS, the 3-year retention requirement is not applicable.

(d) Microfilm copies may be substituted in lieu of original records. RHS and the Comptroller General of the United States, or any of their duly authorized representatives, shall have access to any books, documents, papers, and records of the grantee which are pertinent to the specific grant program for the purpose of making audits, examinations, excerpts, and transcripts.

4. To provide information as requested by RHS concerning the grantee's actions in soliciting citizen participation in the applications process, including published notices of public meetings, actual Public meetings held, and content of written comments received.

5. Not to encumber, transfer, or dispose of the property or any part thereof, furnished by RHS or acquired wholly or in part with FLH-TA grant funds without the written consent of RHS.

6. To provide RHS with such periodic reports of grantee operations as may be required by authorized representatives of RHS.

7. To execute Forms RD 400-1 and RD 400-4, “Assurance Agreement,” and to execute any other agreements required by RHS to implement the civil rights requirements.

8. To include in all contracts in excess of $100,000, a provision for compliance with all applicable standards, orders, or regulations issued pursuant to the Clean Air Act, 42 U.S.C. 1857(h). Violations shall be reported to RHS and the Regional Office of the Environmental Protection Agency.

9. That no member of Congress shall be admitted to any share or part of this grant or any benefit that may arise therefrom, but this provision shall not be construed to bar as a contractor under the grant a public-held corporation whose ownership might include a member of Congress.

10. That all nonconfidential information resulting from its activities shall be made available to the general public on an equal basis.

11. That the grantee shall relinquish any and all copyrights and privileges to the materials developed under this grant; such material being the sole property of the Federal Government. In the event anything developed under this grant is published in whole or in part, the material shall contain a notice and be identified by language to the following effect: “The material is the result of tax-supported research and as such is not copyrightable. It may be freely reprinted with the customary crediting of the source.”

12. That the grantee shall abide by the policies contained in 7 CFR parts 3015, 3016, or 3019, as applicable, which provide standards for use by grantees in establishing procedures for the procurement of supplies, equipment, and other services with Federal grant funds.

13. That it is understood and agreed that any assistance granted under this grant agreement will be administered subject to the limitations of section 516 of Title V of the Housing Act of 1949 and that all rights granted to RHS herein or elsewhere may be exercised by it in its sole discretion to carry out the purposes of the assistance, and protect RHS's financial interest.

14. That the grantee will adopt a standard of conduct that provides that, if an employee, officer, or agency of the grantee, or such person's immediate family members conducts business with the grantee, the grantee must not:

(a) Participate in the selection, award, or administration of a contract to such persons for which Federal funds are used;

(b) Knowingly permit the award or administration of the contract to be delivered to such persons or other immediate family members or to any entity (i.e., partnerships, corporations, etc.) in which such persons or their immediate family members have an ownership interest; or

(c) Permit such person to solicit or accept gratuities, favors, or anything of monetary value from landlords or developers of rental or ownership housing projects or any other person receiving FLH-TA grant assistance.

15. That the grantee will be in compliance with and provide the necessary forms concerning the Debarment and Suspension and the Drug-free Workplace requirements.

PART D RHS Agrees

1. That it will assist the grantee, within available appropriations, with such technical and management assistance as needed in coordinating the statement of work with local officials, comprehensive plans, and any State or area plans for improving housing for farmworkers.

2. That at its sole discretion, RHS may at any time give any consent, deferment, subordination, release, satisfaction, or termination of any or all of the grantee's grant obligations, with or without valuable consideration, upon such terms and conditions as the grantor may determine to be:

(a) Advisable to further the purposes of the grant or to protect RHS's financial interests therein; and

(b) Consistent with the statutory purposes of the grant and the limitations of the statutory authority under which it is made and RHS's regulations.

[FR Doc. 2012-21885 Filed 9-5-12; 8:45 am]

BILLING CODE P